DEPARTMENT OF COMMERCE

International Trade Administration

[C-475-841]

Forged Steel Fluid End Blocks From Italy: Final Results of Countervailing Duty Administrative Review; 2023; Correction

AGENCY: Enforcement and Compliance, International Trade Administration, Department of Commerce.

ACTION: Notice; correction.

SUMMARY: The U.S. Department of Commerce (Commerce) published a notice in the Federal Register on August 22, 2025, in which Commerce announced the final results of the 2023 administrative review of the countervailing duty (CVD) order on forged steel fluid end blocks from Italy. This notice corrects the name of a company subject to the non-selected company subsidy rate, Forge Monchieri S.p.A., which was listed incorrectly as Officine Meccaniche Roselli S.r.l.

FOR FURTHER INFORMATION CONTACT: Stefan Smith, AD/CVD Operations, Office I, Enforcement and Compliance, International Trade Administration, U.S. Department of Commerce, 1401 Constitution Avenue NW, Washington, DC 20230; telephone: (202) 482-4342.

SUPPLEMENTARY INFORMATION:

Background

On August 22, 2025, Commerce published in the Federal Register the Final Results of the 2023 CVD administrative review of forged steel fluid end blocks from Italy.¹ We incorrectly published “Officine Meccaniche Roselli S.r.l” as a company subject to the non-selected company subsidy rate instead of “Forge Monchieri S.p.A.” ²

¹ See Forged Steel Fluid End Blocks From Italy: Final Results of Countervailing Duty Administrative Review; 2023, 90 FR 41054 (August 22, 2025) (Final Results).

² Id., 90 FR at 41055.

Correction

In the Federal Register of August 22, 2025, in FR Doc 2025-16098, on page 41055, in the second column table, correct “Officine Meccaniche Roselli S.r.l” to read “Forge Monchieri S.p.A.”

Notification to Interested Parties

This notice is issued and published in accordance with sections 751(a)(1) and 777(i)(1) of the Tariff Act of 1930, as amended, and 19 CFR 351.221(b)(5).

Dated: August 27, 2025.
Abdelali Elouaradia,
Deputy Assistant Secretary for Enforcement and Compliance.

[FR Doc. 2025-16784 Filed 8-29-25; 8:45 am]

BILLING CODE 3510-DS-P